DEPARTMENT OF ENERGY

Federal Energy Regulatory Commission

18 CFR Part 40

[Docket No. RM06-16-000]

Mandatory Reliability Standards for the Bulk-Power System

November 27, 2006.

AGENCY: Federal Energy Regulatory Commission, DOE.

ACTION: Notice granting in part motions for extension of time to file comments and announcing rulemaking proceeding.

SUMMARY: On October 20, 2006, the Commission issued a Notice of Proposed Rulemaking on mandatory reliability standards for the Bulk-Power System. 71 FR 64770 (November 3, 2006). The Commission is extending the date to file comments on the proposed rule at the request of Edison Electric Institute and the ISO/RTO Council and is establishing a comment period for twenty revised proposed Reliability Standards that were filed in this docket on behalf of the North American Electric Reliability Council (NERC). The Commission is also opening a new rulemaking proceeding for three new proposed Reliability Standards that were filed by NERC.

DATES: Comments on the NOPR are due January 3, 2007. Comments on NERC's twenty revised proposed Reliability Standards are due January 3, 2007.

ADDRESSES: You may submit comments, identified by Docket No. RM06-16-000, by one of the following methods:

• Agency Web site: http://ferc.gov. Follow the instructions for submitting comments via the eFiling link found in the Comment Procedures section of the Preamble.

• Mail: Commenters unable to file comments electronically must mail or hand deliver an original and 14 copies of their comments to: Federal Energy Regulatory Commission, Office of the Secretary, 888 First Street, NE., Washington, DC 20426. Refer to the Comment Procedures section of the preamble for additional information on how to file paper comments.

FOR FURTHER INFORMATION CONTACT: Jonathan First (Legal Information), Office of the General Counsel, Federal Energy Regulatory Commission, 888 First Street, NE., Washington, DC 20426, (202) 502-8529.

SUPPLEMENTARY INFORMATION:

Mandatory Reliability Standards for the Bulk-Power System, Docket No. RM06-16-000.

Facilities Design, Connections and Maintenance Reliability Standards, Docket No. RM07-3-000.

On October 20, 2006, in Docket No. RM06-16-000, the Commission issued a Notice of Proposed Rulemaking (NOPR) on Mandatory Reliability Standards for the Bulk-Power System.¹ Comments on the NOPR are due 60 days after publication in the Federal Register, or January 2, 2007. On November 17, 2006 and November 22, 2006, Edison Electric Institute (EEI) and the ISO/RTO Council, respectively, requested a seven day extension to file comments.

¹ Mandatory Reliability Standards for the Bulk-Power System, 117 FERC ¶ 61,084 (2006), 71 FR 64770 (November 3, 2006).

On November 15, 2006, the North American Electric Reliability Council, on behalf of its affiliate, the North American Electric Reliability Corporation (NERC Corporation, and collectively NERC), filed 20 revised proposed Reliability Standards and three new proposed Reliability Standards for Commission approval. The Commission certified NERC Corporation as the Electric Reliability Organization (ERO) pursuant to section 215 of the Federal Power Act in an order issued July 20, 2006 in Docket No. RR06-1-000.

NERC requested that the 20 revised proposed Reliability Standards be included as part of the NOPR issued by the Commission in Docket No. RM06-16-000. Because of their close relationship with Reliability Standards dealt with in the October 20, 2006 NOPR, the Commission will address these 20 Reliability Standards as part of that proceeding. The 20 revised proposed Reliability Standards are:

CIP-001-1—Sabotage Reporting

COM-001-1—Telecommunications

COM-002-2—Communications and Coordination

EOP-002-2—Capacity and Energy Emergencies

EOP-003-1—Load Shedding Plans

EOP-004-1—Disturbance Reporting

EOP-006-1—Reliability Coordination—System Restoration

INT-001-2—Interchange Information

INT-003-2—Interchange Transaction Information

IRO-001-1—Reliability Coordination—Responsibilities and Authorities

IRO-002-1—Reliability Coordination—Facilities

IRO-003-2—Reliability Coordination—Wide-Area View

IRO-005-2—Reliability Coordination—Current-Day Operations

PER-004-1—Reliability Coordination—Staffing

PRC-001-1—System Protection Coordination

TOP-001-1—Reliability Responsibilities and Authorities

TOP-002-2—Normal Operations Planning

TOP-004-1—Transmission Operations

TOP-006-1—Monitoring System Conditions

TOP-008-1—Response to Transmission Limit Violations

Comments on these 20 revised proposed Reliability Standards should be submitted by January 3, 2007, in Docket No. RM06-16-000. In addition, the deadline for filing comments on the NOPR is extended to January 3, 2007. Accordingly, the requests for extension of time filed by EEI and the ISO/RTO Council are granted to the limited extent set forth here.

The Commission is also opening a new Docket No. RM07-3-000 for processing the three new proposed Reliability Standards. No preliminary comments are being sought at this time. A proposed rulemaking will be issued later, and we will allow comments then. The three proposed new Reliability Standards included in this docket are:

FAC-010-1—System Operating Limits Methodology for the Planning

FAC-011-1—System Operating Limits Methodology for the Operations Horizon

FAC-014-1—Establish and Communicate System Operating Limits

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-20608 Filed 12-5-06; 8:45 am]

BILLING CODE 6717-01-P